DEPARTMENT OF COMMERCE

National Oceanic and Atmospheric Administration

[I.D. 062402A]

Endangered Species; File No. 1356

AGENCY: National Marine Fisheries Service (NMFS), National Oceanic and Atmospheric Administration (NOAA), Commerce.

ACTION: Issuance of permit.

SUMMARY: Notice is hereby given that Inwater Research Group, Inc., 4160 NE Hyline Drive, Jensen Beach, Florida 34957, has been issued a permit to take green, loggerhead, Kemp’s ridley and hawksbill turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)713-0376 and

Southeast Region, NMFS, 9721 Executive Center Drive North, St. Petersburg, FL 33702-2432; phone (727)570-5301; fax (727)570-5320.

FOR FURTHER INFORMATION CONTACT: Lillian Becker or Ruth Johnson, (301)713-2289.

SUPPLEMENTARY INFORMATION: On January 3, 2002, notice was published in the Federal Register (67 FR 308) that a request for a scientific research permit to take green, loggerhead, Kemp’s ridley and hawksbill turtles had been submitted by the above-named organization. The requested permit has been issued under the authority of the Endangered Species Act of 1973, as amended (ESA; 16 U.S.C. 1531 et seq.).

The permit allows the take of green, loggerhead, Kemp’s ridley and hawksbill turtles to study the demographic composition and genetic origin of sea turtles within the Key West National Wildlife Refuge, Florida.

Issuance of this permit, as required by the ESA, was based on a finding that such permit (1) was applied for in good faith, (2) will not operate to the disadvantage of the endangered species which is the subject of this permit, and (3) is consistent with the purposes and policies set forth in section 2 of the ESA.

Dated: July 5, 2002.
Eugene T. Nitta,
Acting Chief, Permits, Conservation and Education Division, Office of Protected Resources, National Marine Fisheries Service.

[FR Doc. 02-17464 Filed 7-10-02; 8:45 am]

BILLING CODE 3510-22-S